DEPARTMENT OF THE INTERIOR

Bureau of Land Management

[NV-043-1220-PA]

Notice of Emergency Off-Road Vehicle (ORV), Also Referred to as Off-Highway Vehicle (OHV), Travel Limitations and Closures Pursuant to Regulations at 43 CFR 8341.2 on Public Lands in the Ely Field Office, Duck Creek Basin

AGENCY: Bureau of Land Management, Interior.

ACTION: Notice.

SUMMARY: Notice is hereby given that effective immediately, off road vehicles (ORV) are restricted on selected public lands administered by the Bureau of Land Management (BLM), Ely Field Office within the Duck Creek Basin. ORV's will be limited to designated roads and trails in the Duck Creek Basin on an interim basis. The BLM is temporarily closing roads on public land to be consistent with the Duck Creek travel management plan map. This action will allow BLM, Ely Field Office to address concerns related to unrestricted cross-country travel in the specific places where resources are now damaged. The Duck Creek Basin is critical habitat for mule deer, elk and peregrine falcons. The purpose of the emergency interim measure is to wildlife habitat, rangeland resources, soil, vegetation, cultural resources, recreation habitat and other resources from imminent adverse impacts from ORV use. Exemptions from this restriction will apply for BLM authorized permittees, official Nevada State business and BLM law enforcement. The authorized officer may make other exemptions to this restriction on a case-by-case basis. This restriction will remain in effect until BLM completes a land use plan amendment or revision for OHV management.

FOR FURTHER INFORMATION CONTACT: Jack Tribble, Lead Outdoor Recreation Planner, Bureau of Land Management, Ely Field Office, HC 33 Box 33500, Ely, Nevada 89301, e-mail jtribble@blm.gov, telephone (775) 289-1800.

SUPPLEMENTARY INFORMATION: As an interim measure, BLM is joining the U.S. Forest Service, Nevada State Division of Wildlife, user groups and public citizens in implementing travel restriction decisions of the White Pine County Coordinated Resource Management Steering Committee (WPCRM). The Committee's travel restriction decisions were based on citizen lead Technical Review Team's recommendations that analyzed resource concerns and user demands over a two-year period. The travel limitations and road closures shall not be construed as a limitation on BLM's future planning and off-highway vehicle route designations. The referenced map is available for review at the above address.

The authority for this restriction and closure is 43 CFR 8341.2 and 43 CFR 8341.1. Violations of this restriction and closure are punishable by a fine not to exceed $1,000 and/or imprisonment not to exceed 12 months as provided in 43 CFR 8360.0-7.

Dated: November 7, 2003.
Jeffrey A. Weeks,
Assistant Field Manager, Ely Field Office (NV-040).
Editorial Note: This document was received at the Office of the Federal Register on May 14, 2004.

[FR Doc. 04-11275 Filed 5-18-04; 8:45 am]

BILLING CODE 4310-HC-P